DEPARTMENT OF HEALTH AND HUMAN SERVICES

Health Resources and Services Administration

White House Initiative on Asian Americans and Pacific Islanders President's Advisory Commission; Notice of Meeting

In accordance with section 10(a)(2) of the Federal Advisory Committee Act (Public Law 92-463), announcement is made of the following National Advisory body scheduled to meet during the month of May 2000.

Name: President's Advisory Commission on Asian Americans and Pacific Islanders.

Date and Time: May 17, 2000; 9:00 a.m.-5:00 p.m. and May 19, 2000; 9:00 a.m.-5:00 p.m.

Place: Hubert H. Humphrey Building, Room 800, 200 Independence Avenue, SW, Washington, D.C. 20201.

The meetings are open to the public.

The President's Advisory Commission will have its inaugural meeting on May 17, from 9:00 a.m.-5:00 p.m. and subsequent meeting on May 19, from 9:00 a.m.-5:00 p.m. The purpose of the Commission is to advise the President on the issues facing Asian Americans and Pacific Islanders (AAPIs). The President's Advisory Commission on AAPIs will be seated through June 7, 2001. Agenda items will include, but will not be limited to: orientation; rolls and responsibilities of Commissioners; updates on the activities of the White House Initiative on AAPIs; and discussion of future Commission activities. Agenda items are subject to change as priorities dictate.

Requests to address the Commission should be made in writing and should include the name, address, telephone number and business or professional affiliation of the interested party. Individuals or groups addressing similar issues are encouraged to combine comments and present through a single representative. The allocation of time for remarks may be adjusted to accommodate the level of expressed interest. Written requests should be faxed to (301) 443-0259. Anyone who has interest in attending any portion of the meeting or who requires additional information about the Commission should contact: Mr. Tyson Nakashima, Office of the White House Initiative on AAPIs, Parklawn Building, Room 10-42, 5600 Fishers Lane, Rockville, MD 20857, Telephone (301) 443-2492. Anyone who requires special assistance, such as sign language interpretation or other reasonable accommodations, should contact Mr. Nakashima no later than May 10, 2000.

Dated: May 3, 2000.
Jane M. Harrison,
Director, Division of Policy Review and Coordination.

[FR Doc. 00-11449 Filed 5-4-00; 8:45 am]

BILLING CODE 4160-15-P